DEPARTMENT OF HEALTH AND HUMAN SERVICES

Centers for Disease Control and Prevention

[Program Announcement 00062]

Postdoctoral Fellowship Training Program in Infectious Diseases; Notice of Availability of Funds; Amendment

A notice announcing the availability of Fiscal Year 2000 funds for a cooperative agreement program for Postdoctoral Fellowship Training Programs in Infectious Diseases was published in the Federal Register on June 7, 2000, [Vol. 65, No. 110, Pages 36145-36148]. The notice is amended as follows:

On page 36147, Second Column, Under Section F. Submission and Deadline, Letter of Intent (LOI), change to read the “In order to assist CDC in planning the evaluation of applications submitted under this Program Announcement, all parties intending to submit an application are requested to submit an LOI to inform CDC of their intention to do so on or before June 23, 2000. Also, on page 36147, Second Column, Under Section F. Submission and Deadline, Application, change to read: On or before Friday, July 7, 2000, submit the application to the Grants Management Specialist identified in the “Where to Obtain Additional Information” section of this announcement.

Dated: June 7, 2000.
Henry S. Cassell, III,
Acting Director, Procurement and Grants Office Centers for Disease Control and Prevention (CDC).

[FR Doc. 00-14834 Filed 6-12-00; 8:45 am]

BILLING CODE 4163-18-P